DEPARTMENT OF VETERANS AFFAIRS

Special Medical Advisory Group, Notice of Meeting

The Department of Veterans Affairs (VA) gives notice under the Federal Advisory Committee Act, 5 U.S.C. App. 2, that the Special Medical Advisory Group will meet on May 25, 2016, room 230 at the Department of Veterans Affairs Central Office, 810 Vermont Ave. NW., Washington, DC 20420 from 8:00 a.m. to 3:30 p.m. ET. The meeting is open to the public.

The purpose of the Group is to advise the Secretary of Veterans Affairs and the Under Secretary for Health on the care and treatment of Veterans, and other matters pertinent to the Department's Veterans Health Administration (VHA).

The agenda for the meeting will include review the potential policy requiring physicians provide a 90 day notification when they leave the VA, Pay for Performance and review best practice dissemination project.

Thirty (30) minutes will be allocated for receiving oral presentations from the public. Members of the public may submit written statements for review by the Committee to Brigid McCarthy, Department of Veterans Affairs, Office of Specialty Care Services (10P4E), Veterans Health Administration, 810 Vermont Avenue NW., Washington, DC 20420, or by email at brigid.mccarthy@va.gov.

Because the meeting is being held in a VA Central Office, a photo I.D. is required at the entrance as a part of the clearance process. Therefore, you should plan to arrive 15 minutes before the meeting begins to allow time for the clearance process. Any member of the public wishing to attend the meeting or seeking additional information should contact Ms. McCarthy at (202) 461-5129 or by email.

Dated: April 13, 2016.
By Direction of the Secretary.
Jeffrey M. Martin,
Program Manager, Regulation Policy and Management, Office of the General Counsel.

[FR Doc. 2016-08868 Filed 4-15-16; 8:45 am]

BILLING CODE 8320-01-P